DEPARTMENT OF ENERGY

Federal Energy Regulatory Commission

[Project No. 5891-009]

Deschutes Valley Water District; Notice of Availability of Environmental Assessment

In accordance with the National Environmental Policy Act of 1969 and the Federal Energy Regulatory Commission's (Commission) regulations, 18 CFR part 380 (Order No. 486, 52 FR 47897), the Office of Energy Projects has reviewed the Deschutes Valley Water District's (licensee) application to amend the license in order to construct and operate fish passage facilities at the Opal Springs Hydroelectric Project No. 5891. The project is located on the Crooked River in Jefferson County, Oregon. The project occupies federal lands administered by the U.S. Bureau of Land Management.

The application, filed with the Commission on October 8, 2015, contains an Environmental Analysis in its Exhibit E. After independent review of the licensee's Exhibit E, Commission staff has decided to adopt the licensee's Environmental Analysis and issue it as staff's Environmental Assessment (EA). The EA analyzes the potential environmental impacts of construction and operation of fish passage facilities plus the proposed mitigation measures and concludes that granting the proposed amendment would not constitute a major federal action that would significantly affect the quality of the human environment.

A copy of the EA is on file with the Commission and is available for public inspection. The EA may be viewed on the Commission's Web site at http://www.ferc.gov using the “eLibrary” link. Enter the docket number (P-5891) in the docket number field to access the document. For assistance, contact FERC Online Support at FERCOnlineSupport@ferc.gov or call toll-free at 1-866-208-3676 or (202) 502-8659 (for TTY).

A copy of the EA may also be accessed using this link: http://elibrary.ferc.gov/idmws/common/OpenNat.asp?fileID=14010704.

You may also register online at http://www.ferc.gov/docs-filing/esubsription.asp to be notified via email of new filings and issuances related to this or other pending projects. For assistance, contact FERC Online Support.

All comments must be filed within 30 days of the date of this notice and should reference Project No. 5891-009. The Commission strongly encourages electronic filing. Please file comments using the Commission's efiling system at http://www.ferc.gov/docs-filing/efiling.asp. Commenters can submit brief comments up to 6,000 characters, without prior registration, using the eComment system at http://www.ferc.gov/docs-filing/ecomment.asp. You must include your name and contact information at the end of your comments. For assistance, please contact FERC Online Support. In lieu of electronic filing, please send a paper copy to: Kimberly D. Bose, Secretary, Federal Energy Regulatory Commission, 888 First Street NE., Washington, DC 20426.

For further information, contact Jennifer Ambler at (202) 502-8586 or Jennifer.Ambler@ferc.gov.

Dated: April 6, 2016.
Kimberly D. Bose,
Secretary.

[FR Doc. 2016-08859 Filed 4-15-16; 8:45 am]

BILLING CODE 6717-01-P